DEPARTMENT OF ENERGY

Federal Energy Regulatory Commission

[Docket No. PF05-13-000]

Florida Gas Transmission Company; Notice Of Intent To Prepare An Environmental Assessment For The Proposed SR 91 Widening Project And Request For Comments On Environmental Issues

June 16, 2005.

The staff of the Federal Energy Regulatory Commission (FERC or Commission) will prepare an environmental assessment (EA) discussing the environmental impacts of Florida Gas Transmission Company's (FGT) proposed SR 91 Widening Project located in Broward County, Florida.

This notice formally announces the opening of the scoping process we¹ will use to gather input from the public and interested regulatory agencies on potential environmental issues concerning the proposed project. This information will be used to help us determine which issues need to be evaluated in the EA. Please note that the scoping period will close on July 18, 2005.

¹ “We”, “us” and “our” refer to the staff of the Office of Energy Projects.

This notice is being sent to affected landowners; Federal, State and local government representatives and agencies; environmental and public interest groups; other interested parties in this proceeding; and local libraries and newspapers. We encourage government representatives to notify their constituents of this notice and to encourage their comments concerning this proposed project.

Summary of the Proposed Project

FGT proposes to abandon and replace approximately 13 miles of 18-inch-diameter and 24-inch-diameter natural gas pipeline. FGT is proposing this action to avoid conflicts resulting from the Florida Turnpike Enterprise's widening of State Road 91. FGT is seeking the authority to:

• Abandon approximately 13 miles of 18-inch-diameter and 24-inch-diameter pipeline; and

• Replace this pipeline east of its existing location (within the highway right-of-way).

A map depicting FGT's proposed activities is provided in Appendix 1.²

² The appendices referenced in this notice will not being printed in the Federal Register. Copies are available on the Commission's website (excluding maps) at http://www.ferc.gov or from the Commission's Public Reference Room—(202) 502-8371.

The EA Process

FERC staff will prepare an EA to analyze the potential impacts that could occur if FGT is issued a Certificate of Public Convenience and Necessity. An analysis of the environmental issues, a discussion of possible alternatives to the proposed project or portions of the project, and recommendations on how to lessen or avoid environmental impacts will be included in the EA.

As noted above, this notice formally announces the beginning of our preparation of an EA and the beginning of the scoping process. With this notice, we are soliciting your input to help us focus the analyses in the EA. In addition, we are requesting that any Federal, State and/or local agencies with jurisdiction and/or special expertise with respect to environmental issues formally cooperate with us in the preparation of the EA.

Upon completion, the EA may be mailed to Federal, State and local government agencies; elected officials; environmental and public interest groups; affected landowners; other interested parties; local libraries and newspapers; and the FERC's official service list for this proceeding. A 30-day comment period would be allotted for review of the EA. We would consider all comments submitted concerning the EA in any Commission Order that may be issued for the project.

Currently Identified Environmental Issues

At this time an application has not been filed with the FERC. We have initiated the Commission's Pre-Filing Process to involve interested parties early in project planning and to assist in the identification and resolution of issues before an application is filed.

We have identified several issues that we think deserve attention based on a preliminary review of the proposed facilities. This preliminary list of issues may be changed based on your comments and our analysis. These issues are:

• Safety concerns and traffic flow related to construction;

• Surface water crossings and water flow management; and

• Project proximity to residential housing.

Public Participation

You can make a difference by providing us with your specific comments or concerns about the proposed project. The more specific your comments, the more useful they will be. Your comments should focus on the potential environmental effects, reasonable alternatives and measures to avoid or lessen environmental impact.

To ensure that your comments are properly recorded, please mail them to our office on or before July 18, 2005. When filing comments please:

• Send an original and two copies of your letter to: Magalie R. Salas, Secretary, Federal Energy Regulatory Commission, 888 First St., NE., Room 1A, Washington, DC 20426;

• Label one copy of your comments to the attention of Gas Branch 2, DG2E; and Reference Docket No. PF05-13-000 on the original and both copies.

Please note that the Commission encourages electronic filing of comments. See 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account.” You will be asked to select the type of filing you are making. This filing is considered a Comment on Filing.

When FGT submits its application for authorization to construct and operate the SR 91 Widening Project, the Commission will publish a Notice of Application in the Federal Register and will establish a deadline for interested persons to intervene in the proceeding. Because the Commission's Pre-filing Process occurs before an application to begin a proceeding is officially filed, petitions to intervene during this process are premature and will not be accepted by the Commission.

Environmental Mailing List

If you wish to remain on the environmental mailing list, please return the Mailing List Retention Form included in Appendix 2. If you do not return this form, you will be taken off our mailing list.

Availability of Additional Information

Additional information about the project is available from the Commission's Office of External Affairs at 1-866-208 FERC (3372) or on the FERC Internet Web site at http://www.ferc.gov. Using the “eLibrary” link, select a General Search from the menu, enter the selected date range and Docket Number PF05-13-000, and follow the instructions. Searches may also be done using the phrase “SR 91 Widening Project” in the Text Search field. For assistance with access to eLibrary, the helpline can be reached at 1-866-208-3676, TTY (202) 502-8659, or at FERCOnlineSupport@ ferc.gov. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

You can also contact Ms. Beth Porter, FGT Right-of-Way Agent by phone at (800) 381-1477 or by e-mail at beth.porter@crosscountryenergy.com with your specific concerns or comments regarding this project.

Magalie R. Salas,
Secretary.

[FR Doc. E5-3241 Filed 6-21-05; 8:45 am]

BILLING CODE 6717-01-P